ENVIRONMENTAL PROTECTION AGENCY

40 CFR Parts 239 and 258

[FRL-7569-4]

Virginia: Approval of Financial Assurance Regulations for the Commonwealth's Municipal Solid Waste Landfill Permitting Program

AGENCY: Environmental Protection Agency (EPA).

ACTION: Immediate final rule.

SUMMARY: In Federal Register documents of February 3, 1993 and March 31, 1994, the Commonwealth of Virginia received Federal determinations of partial program adequacy for its Municipal Solid Waste Landfill permit program under section 4005 of the Resource Conservation and Recovery Act (RCRA). This section requires states to develop and implement permit programs that ensure that Municipal Solid Waste Landfills (MSWLF) which may receive hazardous household waste or small quantity generator waste are obligated to comply with the revised Federal MSWLF Criteria. Initially, Virginia submitted to EPA for approval relevant regulations that corresponded to all sections of 40 CFR part 258 except for Subpart G, Financial Assurance Criteria. On November 21, 2001, the Commonwealth of Virginia adopted financial assurance regulations for MSWLFs and on January 21, 2003 submitted these regulations to EPA for approval. Subject to the opportunity for public review and comment, this notice approves Virginia's financial assurance regulations.

DATES: This approval shall become effective December 8, 2003 unless adverse comments are received on or before November 6, 2003.

ADDRESSES: Written comments should be sent to Mike Giuranna, RCRA State Programs Branch, Waste & Chemicals Management Division (3WC21), U.S. EPA Region III, 1650 Arch Street, Philadelphia, Pennsylvania 19103-2029, telephone: (215) 814-3298. Comments may also be submitted electronically through the Internet to: giuranna.mike@epamail.epa.gov or by facsimile at (215) 814-3163. You may examine copies of the materials submitted by Virginia during normal business hours at EPA, Region III or at the offices of the Virginia Department of Environmental Quality (VADEQ) at 629 East Main Street, Richmond, Virginia 23219, Phone Number (804) 698-4238, attn: John Ely.

FOR FURTHER INFORMATION CONTACT: Mike Giuranna, Mailcode 3WC21, RCRA State Programs Branch, U.S. EPA Region III, 1650 Arch Street, Philadelphia, PA 19103-2029, Phone Number: (215) 814-3298, e-mail: giuranna.mike@epa.gov.

SUPPLEMENTARY INFORMATION: In Federal Register notices of February 3, 1993, (58 FR 6955) and March 31, 1994, (59 FR 15201) EPA determined that all portions of Virginia's Municipal Solid Waste Landfill permitting program, with the exception of the financial assurance portion, were equivalent to EPA's regulations for such programs under 40 CFR part 258. On January 21, 2003, Virginia submitted its financial assurance regulations to EPA for approval. After a thorough review, EPA determined that Virginia's financial assurance regulations, as defined under 9 VAC 20-70, Commonwealth of Virginia Financial Assurance Regulations for Solid Waste Disposal, Transfer and Treatment Facilities, are adequate to assure compliance with the Federal criteria as defined at 40 CFR part 258, subpart G (§§ 258.70 through 258.74). This determination will give full Federal approval to Virginia's Municipal Solid Waste Landfill permitting program.

Statutory and Executive Order Reviews

This rule only approves State solid waste requirements pursuant to RCRA section 4005 and imposes no requirements other than those imposed by State law (see SUPPLEMENTARY INFORMATION, above). Therefore, this rule complies with applicable executive orders and statutory provisions as follows.

1. Executive Order 12866: Regulatory Planning Review—The Office of Management and Budget has exempted this rule from its review under Executive Order 12866.

2. Paperwork Reduction Act—This rule does not impose an information collection burden under the Paperwork Reduction Act.

3. Regulatory Flexibility Act—After considering the economic impacts of today's rule on small entities under the Regulatory Flexibility Act, I certify that this rule will not have a significant economic impact on a substantial number of small entities.

4. Unfunded Mandates Reform Act—Because this rule approves pre-existing requirements under state law and does not impose any additional enforceable duty beyond that required by state law, it does not contain any unfunded mandate or significantly or uniquely affect small governments, as described in the Unfunded Mandates Act.

5. Executive Order 13132: Federalism—Executive Order 13132 does not apply to this rule because it will not have federalism implications (i.e., substantial direct effects on the States, on the relationship between the national government and the States, or on the distribution of power and responsibilities among the various levels of government).

6. Executive Order 13175: Consultation and Coordination with Indian Tribal Governments—Executive Order 13175 does not apply to this rule because it will not have tribal implications (i.e., substantial direct effects on one or more Indian tribes, on the relationship between the Federal Government and Indian tribes, or on the distribution of power and responsibilities between the Federal Government and Indian tribes).

7. Executive Order 13045: Protection of Children from Environmental Health & Safety Risks—This rule is not subject to Executive Order 13045 because it is not economically significant and it is not based on health or safety risks.

8. Executive Order 13211: Actions that Significantly Affect Energy Supply, Distribution, or Use—This rule is not subject to Executive Order 13211 because it is not a significant regulatory action as defined in Executive Order 12866.

9. National Technology Transfer Advancement Act—EPA approves State programs as long as they meet criteria required by RCRA, so it would be inconsistent with applicable law for EPA, in its review of a State program, to require the use of any particular voluntary consensus standard in place of another standard that meets the requirements of RCRA. Thus, section 12(d) of the National Technology Transfer and Advance Act does not apply to this rule.

10. Congressional Review Act—EPA will submit a report containing this rule and other information required by the Congressional Review Act (5 U.S.C. 801 et seq.) to the U.S. Senate, the U. S. House of Representatives, and the Comptroller General of the United States prior to publication in the Federal Register. This action is not a “major rule” as defined by 5 U.S.C. 804(2). This action will be effective December 8, 2003.

List of Subjects

40 CFR Part 239

Environmental protection, Administrative practice and procedure, Intergovernmental relations, Waste treatment and disposal.

40 CFR Part 258

Reporting and recordkeeping requirements, Waste treatment disposal, Water pollution control.

Authority: This document is issued under the authority of section 2002, 4005 and 4010(c) of the Solid Waste Disposal Act, as amended, 42 U.S.C. 6912, 6945 and 6949(a).

James W. Newsom,
Acting Regional Administrator, Region III.

[FR Doc. 03-25398 Filed 10-6-03; 8:45 am]

BILLING CODE 6560-50-P